DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 14, 2005.

Interested persons are invited to submit written comments regarding the subject matter of the investigations to the Director, Division of Trade Adjustment Assistance, at the address shown below, not later than November 14, 2005.

The petitions filed in this case are available for inspection at the Office of the Director, Division of Trade Adjustment Assistance, Employment and Training Administration, U.S. Department of Labor, Room C-5311, 200 Constitution Avenue, NW., Washington, DC 20210.

Signed at Washington, DC, this 26th day of October 2005.
Douglas F. Small,
Acting Director, Division of Trade Adjustment Assistance.

Appendix—TAA Petitions Instituted Between 10/11/05 and 10/14/05
TA-W | Subject firm (petitioners) | Location | Date of institution | Date of petition
58098 | Northwest Airlines (Comp) | Anchorage, AK | 10/11/05 | 10/08/05
58099 | Wip-X Systems, Inc. (Comp) | Mansfield, GA | 10/11/05 | 10/06/05
58100 | US Electrical Motors (State) | Mena, AR | 10/11/05 | 10/07/05
58101 | Honeywell International (State) | Glendale, AZ | 10/11/05 | 10/04/05
58102 | H. Warshow and Sons, Inc. (Comp) | Milton, PA | 10/11/05 | 10/07/05
58103 | Panasonic Home Appliances Company (Wkrs) | Danville, KY | 10/11/05 | 10/05/05
58104 | MGS Manufacturing Group (Wkrs) | Germantown, WI | 10/11/05 | 09/10/05
58105 | Eastman Kodak Company (Comp) | Rochester, NY | 10/11/05 | 10/10/05
58106 | Seiko Optical Products of America, Inc. (State) | Hopkins, MN | 10/11/05 | 10/07/05
58107 | Century Furniture Industries (Comp) | Hickory, NC | 10/11/05 | 10/10/05
58108 | Lazy Pet Products (Comp) | Hazleton, PA | 10/11/05 | 10/10/05
58109 | Telespectrum, Inc. (Wkrs) | Salisbury, NC | 10/11/05 | 09/30/05
58110 | Molnlycke Health Care, Inc. (Comp) | El Paso, TX | 10/11/05 | 10/05/05
58111 | Fashion Dye Works, Inc. (Wkrs) | Ridgewood, NY | 10/11/05 | 09/28/05
58112 | IMC Products, Inc. (State) | Muskegon, MI | 10/11/05 | 10/03/05
58113 | Unifi (Wkrs) | Greensboro, NC | 10/11/05 | 10/07/05
58114 | Alcatel USA (Wkrs) | Plano, TX | 10/12/05 | 10/03/05
58115 | Amphenol Precision Cable Manufacturing (Wkrs) | Rockwall, TX | 10/12/05 | 10/10/05
58116 | Commscope, Inc. (Wkrs) | Scottsboro, AL | 10/12/05 | 10/11/05
58117 | George Weston Bakeries (Wkrs) | Bay Shore, NY | 10/12/05 | 10/11/05
58118 | Innovion (Comp) | Gresham, OR | 10/12/05 | 10/11/05
58119 | Cole Hersee Company (Comp) | So. Boston, MA | 10/12/05 | 10/11/05
58120 | Bangor Mills, Inc. (Comp) | Stroudsburg, PA | 10/13/05 | 10/07/05
58121 | Computernet, Inc. (Comp) | High Point, NC | 10/13/05 | 10/10/05
58122 | Select Staffing, Inc. (State) | Caro, MI | 10/13/05 | 09/27/05
58123 | Wright Plastic Products, LLC (State) | Sheridan, MI | 10/13/05 | 10/10/05
58124 | Victory Plastics International (Wkrs) | Haverhill, MA | 10/13/05 | 10/12/05
58125 | S. Lichtenberg and Co., Inc. (Comp) | Waynesboro, GA | 10/13/05 | 10/12/05
58126 | GDX Automotive (Comp) | Salisbury, NC | 10/13/05 | 10/12/05
58127 | Alaska Airlines (AMFA) | Seattle, WA | 10/13/05 | 10/07/05
58128 | Northwest Airlines (AMFA) | Eagan, MN | 10/13/05 | 10/07/05
58129 | United Airlines (AMFA) | Elk Grove Twp., IL | 10/13/05 | 10/07/05
58130 | ATA Airlines (AMFA) | Indianapolis, TN | 10/13/05 | 10/07/05
58131 | Quality Oak Products, Inc. (Wkrs) | Noble, IL | 10/13/05 | 10/06/05
58132 | Tibbetts Industries, Inc. (Comp) | Camden, MA | 10/14/05 | 10/10/05
58133 | Joan Fabrics (Comp) | Troy, NC | 10/14/05 | 10/13/05
58134 | Kemco, Inc. (Comp) | Travelers Rest, SC | 10/14/05 | 10/13/05
58135 | Snaptite, Inc. (State) | Compton, CA | 10/14/05 | 10/13/05
58136 | Hewlett Packard Co. (Wkrs) | Boise, ID | 10/14/05 | 10/11/05

[FR Doc. E5-6135 Filed 11-3-05; 8:45 am]

BILLING CODE 4510-30-P